DEPARTMENT OF THE INTERIOR

Bureau of Land Management

[LLCAD06000.51010000.ER0000. LVRWB19B6340.19X5017AP.CACA56753]

Notice of Availability of the Whitewater River Groundwater Replenishment Facility Project Draft Environmental Impact Statement, Riverside County, CA

AGENCY: Bureau of Land Management, Interior.

ACTION: Notice of availability.

SUMMARY: In accordance with the National Environmental Policy Act (NEPA) of 1969, as amended, and the Federal Land Policy and Management Act of 1976, as amended, the Bureau of Land Management (BLM) has prepared a Draft Environmental Impact Statement (EIS) for the Whitewater River Groundwater Replenishment Facility Project (Project), and by this notice is announcing the opening of a 45-day public comment period.

DATES: To ensure that all comments will be considered, the BLM must receive written comments on the Draft EIS within 45 days following the date that the EPA publishes its Notice of Availability (NOA) in the Federal Register. The EPA usually publishes its NOAs every Friday. The BLM will announce future meetings and any other public involvement activities at least 15 days in advance through public notices, news releases, the project website, and/or mailings.

ADDRESSES: The public may submit comments related to the project during the public comment period by using any of the following methods:

• Project Website: https://go.usa.gov/x6xUc.

• Email: BLM_CA_WhitewaterRecharge@blm.gov.

• Mail: Whitewater River Groundwater Replenishment Facility Project, Bureau of Land Management Palm Springs—South Coast Field Office, 1201 Bird Center Drive, Palm Springs, CA 92262.

Copies of the Draft EIS are available for viewing electronically on the project website.

FOR FURTHER INFORMATION CONTACT: Miriam Liberatore, BLM project manager, telephone: (541) 618-2412; email: mliberat@blm.gov; address Bureau of Land Management, 3040 Biddle Road, Medford, OR 97504.

Persons who use telecommunication devices for the deaf may call the Federal Relay Service (FRS) at 1-800-877-8339 to contact Ms. Liberatore during normal business hours. The FRS is available 24 hours a day, 7 days a week, to leave a message or question. You will receive a reply during normal business hours.

SUPPLEMENTARY INFORMATION: The Coachella Valley Water District (CVWD) seeks a right-of-way (ROW) grant from the BLM for its existing groundwater replenishment facility in North Palm Springs that is partially located on public lands managed by the BLM. The existing facility consists of water control berms, intake structures, conveyance structures, and 19 infiltration ponds over approximately 690 acres of BLM-managed public lands. The facility also includes 1,480 acres of lands held by CVWD. No new construction and no change in operations are proposed. The change in volume represents CVWD's request that the BLM analyze environmental impacts for the full annual capacity of the facility, instead of the anticipated water allotments, as was done for the previous grant. The change in acreage represents CVWD's request to authorize the use of public lands for water control berms upstream of its intake structure.

The BLM is the lead agency under NEPA and will make Federal decisions regarding the proposed plan amendment and the ROW for the Project. The U.S. Fish and Wildlife Service is a Cooperating Agency and will issue a Biological Opinion for the project. The United States Bureau of Indian Affairs, Agua Caliente Band of Cahuilla Indians, Desert Water Agency, and Metropolitan Water District of Southern California are Cooperating Agencies in this environmental review, but do not have direct permitting roles in the project.

The Proposed Action (Alternative 1) would authorize the facility in its existing configuration and would review the environmental impacts of infiltrating up to 511,000 acre-feet per year, representing the maximum physical capacity of the facility. In addition to the Proposed Action, the Draft EIS considers a no action alternative and three action alternatives. Alternative 2 (Partial Implementation) would authorize only the area of public lands on which the water control structures upstream of the intake are located. Alternative 3 (Reduced Volume) would authorize the same facility as described under Alternative 1 but the environmental review would be based on an annual infiltration volume of 220,000 acre-feet per year. Alternative 4 (Land Disposal) would authorize the sale or exchange of the public lands within the project footprint and would authorize the facility operation on public lands for a period of 10 years, sufficient to implement the disposal. Alternative 5 (No Action) would not authorize those portions of the facility that are located on public lands. Those portions would be removed, and the public lands rehabilitated. Alternative 1 is the BLM preferred alternative.

Public input on these alternatives or other issues is important and will be considered in the development of the Final EIS.

Before including your address, phone number, email address, or other personal identifying information in your comment, you should be aware that your entire comment—including your personal identifying information—may be made publicly available at any time. While you can ask us in your comment to withhold your personal identifying information from public review, we cannot guarantee that we will be able to do so.

(Authority: 40 CFR 1506.6, 40 CFR 1506.10, 43 CFR 1610.2)

Karen E. Mouritsen,
California State Director.

[FR Doc. 2021-12075 Filed 6-10-21; 8:45 am]

BILLING CODE 4310-40-P